DEPARTMENT OF HEALTH AND HUMAN SERVICES

National Institutes of Health

Center for Scientific Review; Amended Notice of Meeting

Notice is hereby given of a change in the meeting of the Aging Systems and Geriatrics Study Section, October 07, 2013, 08:00 a.m. to October 08, 2013, 05:00 p.m., Embassy Suites at the Chevy Chase Pavilion, 4300 Military Road NW., Washington, DC 20015, which was published in the Federal Register on September 10, 2013, 78 FR 55269.

The meeting will be held at the Residence Inn Bethesda, 7335 Wisconsin Avenue, Bethesda, MD 20814 on December 9, 2013, starting at 07:00 a.m. and ending at 06:00 p.m. The meeting is closed to the public.

Dated: October 29, 2013.
Melanie J. Gray,
Program Analyst, Office of Federal Advisory Committee Policy.

[FR Doc. 2013-26202 Filed 11-1-13; 8:45 am]

BILLING CODE 4140-01-P